OFFICE OF PERSONNEL MANAGEMENT

[OMB Control No. 3206-0173; Form SF 3102]

Proposed Information Collection; Request for Comments on a Revised Information Collection

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of a revised information collection. This information collection, “Designation of Beneficiary (FERS)” (OMB Control No. 3206-0173; form SF 3102), is used by an employee or an annuitant covered under the Federal Employees Retirement System to designate a beneficiary to receive any lump sum due in the event of his/her death.

Comments are particularly invited on whether this collection of information is necessary for the proper performance of functions of the Office of Personnel Management, and whether it will have practical utility; whether our estimate of the public burden of this collection is accurate and based on valid assumptions and methodology; and ways in which we can minimize the burden of the collection of information on those who are to respond through use of the appropriate technological collection techniques or other forms of information technology.

Approximately 2,893 SF 3102 forms are completed annually. Each form will take approximately 15 minutes to complete. The annual estimated burden is 723 hours.

For copies of this proposal, contact Margaret A. Miller by telephone at (202) 606-2699, by FAX (202) 418-3251, or by e-mail to Margaret.Miller@opm.gov. Please include a mailing address with your request.

DATES: Comments on this proposal should be received within 60 calendar days of the date of this publication.

ADDRESSES: Send or deliver comments to Ronald W. Melton, Deputy Assistant Director, Retirement Services Program, Center for Retirement and Insurance Services, U.S. Office of Personnel Management, 1900 E Street, NW.—Room 3305, Washington, DC 20415-3500.

For Information Regarding Administrative Coordination Contact: Cyrus S. Benson, Team Leader, Publications Team, RIS Support Services/Support Group, U.S. Office of Personnel Management, 1900 E Street, NW.—Room 4H28, Washington, DC 20415, (202) 606-0623.

U.S. Office of Personnel Management.
Howard Weizmann,
Deputy Director.

[FR Doc. E8-23609 Filed 10-6-08; 8:45 am]

BILLING CODE 6325-38-P